DEPARTMENT OF JUSTICE

Notice of Lodging of Consent Decree Under the Comprehensive Environmental Response, Compensation and Liability Act

Under 28 CFR 50.7, notice is hereby given that on April 2, 2007, a proposed consent decree with defendant BOC Group, Inc., was lodged in the civil action United States v. The BOC Group, Inc.,Civil Action No. 07-5163-FDB, in the United States District Court for the Western District of Washington.

In this action the United States sought, pursuant to Sections 106 and 107 of the Comprehensive Environmental Response, Compensation and Liability Act (“CERCLA”), 42 U.S.C. 9606 & 9607, to recover costs incurred in response to releases of hazardous substances at the Boomsnub/Airco Superfund Site (“the Site”) in Vancouver, Washington, and to require defendant BOC Group, Inc. to implement EPA's selected remedy at the Site.

The proposed consent decree will resolve the United States' claims against defendant BOC Group, Inc. Under the terms of the proposed consent decree, defendant BOC Group, Inc. will implement the remedy for the Site as required in the proposed consent decree, and pay $6.65 million to the Hazardous Substances Superfund.

In return, the United States will grant BOC Group, Inc. a covenant not to sue under CERCLA with respect to the Site.

The Department of Justice will receive, for a period of thirty (30) days from the date of this publication, comments relating to the proposed consent decree. Comments should be addressed to the Assistant Attorney General, Environment and Natural Resources Division, P.O. Box 7611, U.S. Department of Justice, Washington, DC 20044-7611, and should refer to the proposed consent decree with defendant BOC Group, Inc. in United States v. The BOC Group, Inc.,D.J. Ref. 90-11-2-1018/2.

The proposed consent decree may be examined at the office of the United States Attorney, 1201 Pacific Avenue, Suite 700, Tacoma, Washington. During the public comment period, the proposed consent decree may be examined on the following Department of Justice Web site: http://www.usdoj.gov/enrd/Consent_Decrees.html and may be obtained upon request from the Consent Decree Library, P.O. Box 7611, U.S. Department of Justice, Washington, DC 20044-7611 or by faxing a request to Tonia Fleetwood, fax no. (202) 514-0097, phone confirmation number (202) 514-1547. In requesting a copy please refer to the referenced case and enclose a check in the amount of $19.50 (25 cents per page reproduction costs), payable to the U.S. Treasury.

Public comments may be submitted by e-mail to the following e-mail address: pubcomment-ees.enrd@usdoj.gov.

Robert Maher,
Assistant Chief, Environmental Enforcement Section, Environment and Natural Resources Division.

[FR Doc. 07-1923 Filed 4-18-07; 8:45 am]

BILLING CODE 4410-15-M